DEPARTMENT OF DEFENSE

Department of the Army

Final Programmatic Environmental Impact Statement for Activities and Operations at Yuma Proving Ground, AZ

AGENCY: Department of the Army, DoD.

ACTION: Notice of availability.

SUMMARY: The Department of the Army announces the availability of the Final Programmatic Environmental Impact Statement (FPEIS) for Activities and Operations at Yuma Proving Ground (YPG). This document analyzes and evaluates potential environmental impacts associated with short-term and long-term proposed construction projects and proposed changes to YPG's testing and training mission. The potential for environmental impacts is greatest for the following resource areas: Soils, air quality, solid and hazardous materials/waste, vegetation, and wildlife. Best management practices and other mitigation measures were identified in the FPEIS.

DATES: The waiting period will end 30 days after publication of the NOA in the Federal Register.

ADDRESSES: For questions concerning the FPEIS, please contact Mr. Sergio Obregon, U.S. Army Garrison Yuma Proving Ground, National Environmental Policy Act Coordinator, IMYM-PWE, Yuma, AZ 85365-9498. Questions may be mailed to that address or emailed to usarmy.ypg.imcom.mbx.nepa@mail.mil.

FOR FURTHER INFORMATION CONTACT: Mr. Chuck Wullenjohn, Yuma Proving Ground Public Affairs Office, at (928) 328-6189, Monday through Thursday from 6:30 a.m. to 5:00 p.m., Mountain Time.

SUPPLEMENTARY INFORMATION: YPG consists of approximately 840,000 acres of DoD-managed land in the Sonoran Desert in southwestern Arizona. The Department of the Army prepared a FPEIS to analyze potential impacts from new construction, changes in testing and training, and activities conducted under private industry partnerships.

Two alternatives were analyzed in the FPEIS: (1) No Action, which describes the resulting conditions if there were no changes in testing and training activities conducted at YPG and (2) the Proposed Action/Preferred Alternative, which includes new construction and associated demolition, testing and training activities occurring on YPG, and new testing and training proposed by tenants to meet anticipated testing or training needs. The Preferred Alternative was determined after consideration of Native American concerns and feedback from agencies and resulted in reduction of the proposed impact areas for four projects.

The FPEIS addressed the following types of activities:

• Short-term, well-defined activities at known locations that could be implemented without additional NEPA analysis once a decision is made.

• Short-term, less well-defined activities for which locations are not known or for which additional information regarding site-specific implementation must be developed that would receive additional site-specific NEPA analysis prior to project implementation.

• Long-term, less well-defined activities that would occur later in time and would receive additional site-specific NEPA analysis prior to project implementation.

The FPEIS provided thorough analysis under NEPA for the short-term well-defined projects and allows less well-defined projects to be implemented following a focused, site-specific NEPA analysis that would tier from this analysis.

The Army is not seeking to expand the boundaries of YPG and all proposed activities would be conducted within the boundaries of the installation or its currently authorized airspace. No changes were proposed to ongoing military activities conducted at off-post areas in Arizona and California that are used for specific military testing activities under conditions not found at YPG. Therefore, activities conducted in these areas were not included in the analysis in the FPEIS.

The potential for environmental impacts is greatest for the following resource areas: soils, air quality, solid and hazardous materials/waste, vegetation, and wildlife. Impacts to these resources may occur as a result of converting existing land use to support military testing and training or from increasing the scope or magnitude of testing activities. Best management practices and other mitigation measures were identified in the FPEIS.

The Army will observe a waiting period of 30 days following the publication of the Notice of Availability for the FPEIS in the Federal Register by the U.S. Environmental Protection Agency before making a decision. Copies of the FPEIS have been sent to affected Federal, State, and local government agencies, to federally recognized Native American tribes, and to other stakeholders. Copies of the FPEIS are available for public inspection at the Yuma County Library, Main Branch, 2951 S. 21st Drive and the Yuma Proving Ground Post Library. The FPEIS can also be viewed at the following Web sites: http://www.yuma.army.mil/Documents.aspx, and http://www.epa.gov/compliance/nepa/eisdata.html.

Brenda S. Bowen,
Army Federal Register Liaison Officer.

[FR Doc. 2015-09519 Filed 4-23-15; 8:45 am]

BILLING CODE 3710-08-P